DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before October 17, 2022.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 8, 2022.
Donald P. Burger,
Chief, General Approvals and Permits Branch.

Application No. | Applicant | Regulation(s) affected | Nature of the special permits thereof
Special Permits Data
21422-N | Superior Refining Company LLC | 173.6(a)(1)(i), 173.6(b)(4) | To authorize the transportation in commerce of gasoline and petroleum distillates in glass packagings under the materials of trade exception in quantities that exceed what is authorized in 173.6 for the purpose of testing. (mode 1).
21425-N | Lucid USA, Inc | 172.101(j) | To authorize the transportation in commerce of lithium batteries exceeding 35 kg via cargo-only aircraft. (mode 4).
21426-N | Spaceflight, Inc | 173.185(a)(1) | To authorize the transportation in commerce of low production or prototype lithium batteries contain in equipment via cargo-only aircraft. (mode 4).
21427-N | Walmart Inc | Subchapter C | To authorize the transportation in commerce of hazardous materials meeting the definition of “consumer commodities” via contracted delivery platforms as not subject to the requirements of the Hazardous Materials Regulations. (mode 1).
21428-N | Livewire EV LLC | 172.101(j), 173.220(d), 173.185(a)(1) | To authorize the transportation in commerce of prototype lithium batteries, and those installed in vehicles, via cargo-only aircraft. (mode 4).
21431-N | Philips Medical Systems MR, Inc | 171.22 | To authorize the transportation in commerce of MRI scanners utilizing the newly adopted provisions of the ICAO TI prior to their incorporation into the HMR. (mode 4).
21432-N | Koch Fertilizer, LLC | 171.7(n)(15), 172.203(a), 173.315(l)(5) | To authorize the transportation in commerce of anhydrous ammonia in cargo tanks using an alternative test method for determining minimum water content using online NIR technology. (mode 1).
21433-N | Pyrotek Special Effects Lititz | 173.306(k) | To authorize the transportation in commerce of used and partially full 2Q cans of flammable gas (Salamander or G-Flame cans) in accordance with the exception for aerosols in § 107.306(k). (mode 1).
21435-N | Zhejiang Dongcheng Printing Industry Co., Ltd | 173.304(d) | To authorize the manufacture, marking, sale and use of a non-DOT specification non-refillable inside container similar to a 2Q specification container. (modes 1, 2, 3, 4).
21437-N | Linde Gas & Equipment Inc | 173.181(d)(1), 173.181(d)(1)(ii) | To authorize the transportation in commerce of DOT specification combination packagings that consist of a UN1A1 2 port inner drum, with a capacity other than 10 or 20 liters, inside a UN1A2 drum containing UN 3394, Organometallic Substance, Liquid, Water Reactive, 4.2 (4.3). (modes 1, 2, 3).
21438-N | Samsung SDI America, Inc | 172.101(j) | To authorize the transportation in commerce of lithium ion batteries exceeding 35 kg by cargo-only aircraft. (mode 4).
21441-N | K&M Transportation Services, LLC | 173.196(b)(2) | To authorize the transportation in commerce of infectious substances in alternative packaging. (mode 1).

[FR Doc. 2022-20117 Filed 9-15-22; 8:45 am]

BILLING CODE 4909-60-P